DEPARTMENT OF COMMERCE

International Trade Administration

[A-570-890]

Wooden Bedroom Furniture From the People's Republic of China: Correction to Notice of Extension of Preliminary Results of Antidumping Duty New Shipper Review

AGENCY: Import Administration, International Trade Administration, Department of Commerce.

DATES: Effective Date: October 15, 2010.

FOR FURTHER INFORMATION CONTACT: Jeffrey Pedersen or Rebecca Pandolph, AD/CVD Operations, Office 4, Import Administration, International Trade Administration, U.S. Department of Commerce, 14th Street and Constitution Avenue, NW., Washington, DC 20230; telephone: (202) 482-2769 or (202) 482-3627, respectively.

Correction

On August 27, 2010, the Department of Commerce (the Department) published a notice of extension of time limit for the preliminary results of the antidumping new shipper review of wooden bedroom furniture from the People's Republic of China for the period January 1, 2009, through December 31, 2009. See Wooden Bedroom Furniture From the People's Republic of China: Extension of Preliminary Results of Antidumping Duty New Shipper Review, 75 FR 52716 (August 27, 2010) (Extension Notice). Subsequent to the publication of the Extension Notice, we identified an inadvertent clerical error in the Extension Notice.

Under the “Extension of Time Limits for Preliminary Results” section of the Extension Notice, the Department discussed the reasons for extending the preliminary results of the new shipper review but then incorrectly stated that it was “extending the time for the completion of the final results” and noted that “the deadline for completion of the final results of these reviews is now no later than December 27, 2010.” The purpose of the instant notice is to notify parties of the error and to correct the error.

The Department has not extended the final results of the new shipper review. Rather, the Extension Notice was meant to extend the preliminary results of the new shipper review. Thus, the preliminary results of the new shipper review are due no later than December 27, 2010.

This correction notice is issued and published in accordance with sections 751(a)(2)(B)(iv) and 751(h) of the Act.

Dated: October 7, 2010.
Susan H. Kuhbach,
Acting Deputy Assistant Secretary for Antidumping and Countervailing Duty Operations.

[FR Doc. 2010-26069 Filed 10-14-10; 8:45 am]

BILLING CODE 3510-DS-P